FEDERAL COMMUNICATIONS COMMISSION

Information Collection Approved by Office of Management and Budget

AGENCY: Federal Communications Commission.

ACTION: Notice.

SUMMARY: The Federal Communications Commission (FCC) has received Office of Management and Budget (OMB) approval for the following public information collections pursuant to the Paperwork Reduction Act of 1995 (44 U.S.C. 3501-3520). An agency may not conduct or sponsor a collection of information unless it displays a currently valid OMB control number, and no person is required to respond to a collection of information unless it displays a currently valid control number.

FOR FURTHER INFORMATION CONTACT: Judith B. Herman, Office of Managing Director, Federal Communications Commission, at (202) 418-0214.

SUPPLEMENTARY INFORMATION: OMB Control No.: 3060-0999.

OMB Approval Date: November 20, 2012.

OMB Expiration Date: November 30, 2015.

Title: Hearing Aid Compatibility Status Report and Section 20.19, Hearing Aid-Compatible Mobile Handsets (Hearing Aid Compatibility Act).

Form No.: FCC Form 655.

Respondents: Business or other for profit entities.

Total Number of Respondents and Responses: 925 respondents; 925 responses.

Total Annual Burden: 12,063 hours.

Total Annual Cost: None.

Estimated Time per Response: 13.041081.

Frequency of Response: On occasion and annual reporting requirements; Third party disclosure requirement.

Obligation to Respond: Required to obtain or retain benefits. Statutory authority for this information collection is contained in 47 U.S.C. 151, 154(i), 157, 160, 201, 202, 208, 214, 301, 303, 308, 309(j), 310 and 610 of the Communications Act of 1934, as amended.

Nature and Extend of Confidentiality: Information requested in the reports may include confidential information. However, covered entities are allowed to request that such materials submitted to the Commission be withheld from public inspection under 47 CFR 0.459 of the Commission's rules.

Privacy Act: N/A.

Needs and Uses: On April 9, 2012, the Commission adopted final rules in a Third Report and Order, DA12-550, which adopts the 2011 revision of the hearing aid compatibility technical standard (ANSI Standard) as an applicable technical standard alongside the 2007 version that is already in the Commission's rules.

Under the 2011 ANSI Standard, the Commission tailored its existing disclosure requirements to address new situations that may arise. Specifically, the Commission adopted a requirement to inform users about any operations in handsets that a manufacturer may have tested under the 2011 version of the ANSI Standard and found not to meet hearing aid compatibility criteria for those operations. The Commission also adopted a requirement to make disclosure about any handsets that have not been tested for the inductive coupling capability of Voice over Long Term Evolution (VoLTE) transmissions.

The Commission is now modifying the FCC Form 655 to collect information that is relevant to the newly effective provisions of the rule and to clarify and streamline existing fields. See the 60 day notice published in the Federal Register on July 30, 2012 (77 FR 44614) for the specific changes made to the form.

Federal Communications Commission.
Marlene H. Dortch,
Secretary.

[FR Doc. 2012-30038 Filed 12-12-12; 8:45 am]

BILLING CODE 6712-01-P